DEPARTMENT OF THE INTERIOR

Bureau of Land Management

[WO-220-16-1020-JA-VEIS]

Notice of Availability of the Record of Decision for the Final Programmatic Environmental Impact Statement for Vegetation Treatments Using Herbicides on Bureau of Land Management Lands in 17 Western States

AGENCY: Bureau of Land Management, Interior.

ACTION: Notice.

SUMMARY: Pursuant to Section 102(2)(C) of the National Environmental Policy Act of 1969 (NEPA), the Bureau of Land Management (BLM) hereby gives notice that the Record of Decision is available for the Final National Programmatic Environmental Impact Statement (Final EIS) on vegetation treatments involving the use of aminopyralid, fluroxypyr, and rimsulfuron herbicides on public lands administered by the BLM in 17 western states, including Alaska.

ADDRESSES: Copies of the Record of Decision are available in hard copy or CD upon request at the BLM Washington Office, 20 M Street SE., Room 2134, Washington, DC 20003, or at BLM State, District, and Field Office public rooms, or you can review or download the document from the BLM public Web site: http://blm.gov/3vkd.

FOR FURTHER INFORMATION CONTACT: Gina Ramos, Senior Weeds Specialist, telephone 202-912-7226 or Kim Anderson, Project Manager, telephone 206-438-2337. Persons who use a telecommunications device for the deaf (TDD) may call the Federal Information Relay Service (FIRS) at 1-800-877-8339 to contact the above individuals during normal business hours. The FIRS is available 24 hours a day, seven days a week, to leave a message or question with the above individuals. You will receive a reply during normal business hours.

SUPPLEMENTARY INFORMATION: The Final EIS provides a comprehensive analysis of BLM's use of chemical herbicides in its various vegetation treatment programs related to hazardous fuels reduction, noxious weeds, invasive terrestrial and aquatic plant species management, resource rehabilitation following catastrophic fires, and other disturbances. The BLM served as the lead Federal agency for the preparation of the Final EIS. Alternative B in the Final EIS identifies three herbicides selected for use: Aminopyralid, fluroxypyr, and rimsulfuron. The Record of Decision identifies best management practices, standard operating procedures, and mitigation measures for all vegetation treatment projects involving the use of aminopyralid, fluroxypyr, and rimsulfuron.

The Final EIS addresses human health and ecological risk for the use of chemical herbicides on public lands and provides a cumulative impact analysis of the use of chemical herbicides in conjunction with other treatment methods.

The decision area includes surface estate public lands administered by 11 BLM State offices: Alaska, Arizona, California, Colorado, Idaho, Montana (North Dakota/South Dakota), New Mexico (Oklahoma/Texas/Nebraska), Nevada, Oregon (Washington), Utah, and Wyoming.

The BLM issued a Notice of Availability of the Draft Programmatic Environmental Impact Statement Using Aminopyralid, Fluroxypyr, and Rimsulfuron (Draft EIS) on June 19, 2015 (80 FR 35394).

The BLM responded to 98 individual public comments during the Draft EIS public review period.

Comment responses and subsequent changes to the impact analysis are documented in the Final EIS. In addition, the FEIS contains Subsistence analysis required under Section 801(a) of the Alaska National Interest Lands Conservation Act (ANILCA).

Authority: 40 CFR 1506.6, 40 CFR 1606.10.

Kit Muller,
Acting Assistant Director, Resources and Planning, Bureau of Land Management.

[FR Doc. 2016-21446 Filed 9-8-16; 8:45 am]

BILLING CODE 4310-84-P